DEPARTMENT OF THE TREASURY

Submission for OMB Review; Comment Request

May 21, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

Dates: Written comments should be received on or before July 26, 2010 to be assured of consideration.

Internal Revenue Service (IRS)

OMB Number: 1545-2160.

Type of Review: Revision of a currently approved collection.

Title: Information Return for Tax Credit Bonds.

Form: 8038-TC.

Abstract: Form 8038-TC will be used by issuers of qualified tax-exempt credit bonds, including tax credit bonds enacted under the American Recovery and Reinvestment Act of 2009, to capture information required by IRC section 149(e) using a schedule approach. For applicable types of bond issues, filers will use this form instead of Form 8038, Information Return for Tax-Exempt Private Activity Bond Issues.

Respondents: State, Local, and Tribal Governments.

Estimated Total Burden Hours: 20,294 hours.

OMB Number: 1545-2161.

Type of Review: Extension without change of a currently approved collection.

Title: Information Return for Build America Bonds and Recovery Zone Economic Development Bonds.

Form: 8038-B.

Abstract: Form 8038-B has been developed to assist issuers of the new types of Build America and Recovery Zone Economic Development Bonds enacted under the American Recovery and Reinvestment Act of 2009 to capture information required by IRC section 149(e).

Respondents: State, Local, and Tribal Governments.

Estimated Total Burden Hours: 113,661 hours.

OMB Number: 1545-2162.

Type of Review: Extension without change of a currently approved collection.

Title: HCTC Medicare Family Member Registration Form.

Form: 14117.

Abstract: The Health Coverage Improvement, Section 1899E of the American Recovery and Reinvestment Act of 2009, authorizes the continuation of HCTC benefits for qualified family members after the original HCTC candidate has been canceled from the program due to Medicare enrollment. The original HCTC candidate will complete this form in order to continue enrollment for or to register their family members in the monthly HCTC program.

Respondents: Individuals or Households.

Estimated Total Burden Hours: 1,200 hours.

OMB Number: 1545-2163.

Type of Review: Extension without change of a currently approved collection.

Title: Family Member Eligibility Form.

Form: 14116.

Abstract: This form will be used by the family members of Health Coverage Tax Credit (HCTC) eligible individuals under circumstances where the original candidate has died or become divorced from the family member. This form allows family member to begin the HCTC registration process by verifying the family member's eligibility.

Respondents: Individuals or Households.

Estimated Total Burden Hours: 30 hours.

OMB Number: 1545-2164.

Type of Review: Extension without change of a currently approved collection.

Title: Relief and Guidance on Corrections of Certain Failures of a Nonqualified Deferred Compensation Plan to Comply with § 409A(a).

Notice: 2010-6.

Abstract: Notice 2010-6 requires a corporation to attach to its federal income tax return an information statement related to the correction of a failure of a nonqualified deferred compensation plan to comply with the written plan document requirements of § 409A(a). The information statement must be attached to the corporation's income tax return for the corporation's taxable year in which the correction is made, and the subsequent taxable year to the extent an affected employee must include an amount in income in such subsequent year as a result of the correction. The corporation must also provide an information statement to each affected employee, and such employee must attach an information statement to the employee's federal tax return for the employee's taxable year during which the correction is made, and the subsequent taxable year but only if an amount is includible in income by the employee in such subsequent year as a result of the correction.

Respondents: Private Sector: Businesses or other for-profits.

Estimated Total Burden Hours: 5,000 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-15375 Filed 6-24-10; 8:45 am]

BILLING CODE 4830-01-P